ENVIRONMENTAL PROTECTION AGENCY

[EPA-HQ-OAR-2015-0806; FRL-9940-40-OAR]

Access by EPA Contractors to Information Claimed as Confidential Business Information (CBI) Submitted under Title II of the Clean Air Act and Related Regulations

AGENCY: Environmental Protection Agency (EPA).

ACTION: Notice.

SUMMARY: The Environmental Protection Agency (EPA)'s Office of Transportation and Air Quality (OTAQ) plans to authorize various contractors to access information which will be submitted to the EPA under Title II of the Clean Air Act that may be claimed as, or may be determined to be, confidential business information (CBI). Access to this information, which is related to registration of fuels and fuel additives under 40 CFR part 79; various fuels reporting programs under 40 CFR part 80; and reporting of various greenhouse gas reporting items under the mandatory reporting rule of 40 CFR part 98, subparts A, LL and MM will begin on December 31, 2015.

DATES: The EPA will accept comments on this Notice through December 28, 2015.

FOR FURTHER INFORMATION CONTACT: Jaimee Dong, Environmental Protection Agency, 1200 Pennsylvania Ave. NW., MC 6405A, Washington, DC, 20004; telephone number: 202-343-9672; fax number: 202-343-2800; email address: dong.jaimee@epa.gov.

SUPPLEMENTARY INFORMATION:

I. Does this Notice Apply to Me?

This action is directed to the general public. However, this action may be of particular interest to parties who submit or have previously submitted information to the EPA regarding the following programs: fuel and fuel additive registration (40 CFR part 79); and various fuels programs including reformulated gasoline, anti-dumping, gasoline sulfur, ultra low sulfur diesel, benzene content, and the renewable fuel standard (40 CFR part 80). Parties who may be interested include refiners, importers, producers of renewable fuels, parties who engage in RIN transactions, and all those who submit compliance reports to the EPA via any method (e.g., via EPA's Central Data Exchange, or CDX), including those who engage in reporting via the EPA Moderated Transaction System (EMTS).

This action may also be of particular interest to parties such as suppliers of coal-based liquid fuels and suppliers of petroleum products, as described in 40 CFR part 98 subparts LL and MM, respectively. (40 CFR part 98, subpart A contains general provisions related to registration and reporting.) Parties who may be interested in this notice include refiners, importers, and exporters of these products.

This Federal Register notice may be of particular relevance to parties that have submitted data under the above-listed programs or systems. Since other parties may also be interested, the Agency has not attempted to describe all the specific parties that may be affected by this action. If you have further questions regarding the applicability of this action to a particular party, please contact the person listed in FOR FURTHER INFORMATION CONTACT.

II. How can I get copies of this document and other related information?

A. Electronically

The EPA has established a public docket for this Federal Register notice under Docket EPA-HQ-OAR-2015-0806.

All documents in the docket are identified in the docket index available at http://www.regulations.gov. Although listed in the index, some information is not publicly available, such as confidential business information (CBI) or other information for which disclosure is restricted by statute. Certain materials, such as copyrighted material, will only be available in hard copy at the EPA Docket Center.

B. EPA Docket Center

Materials listed under Docket EPA-HQ-OAR-2015-0806 will be available for public viewing at the EPA Docket Center Reading Room, WJC West Building, Room 3334, 1301 Constitution Avenue NW., Washington, DC 20004. The EPA Docket Center Public Reading Room is open from 8:30 a.m. to 4:30 p.m., Monday through Friday, excluding Federal holidays. The telephone number for the Reading Room is (202) 566-1744, and the telephone number for the Air and Radiation Docket is (202) 566-1742.

III. Description of Programs and Potential Disclosure of Information Claimed as Confidential Business Information (CBI) to Contractors

The EPA's Office of Transportation and Air Quality (OTAQ) has responsibility for protecting public health and the environment by regulating air pollution from motor vehicles, engines, and the fuels used to operate them, and by encouraging travel choices that minimize emissions. In order to implement various Clean Air Act programs, and to permit regulated entities flexibility in meeting regulatory requirements (e.g., compliance on average), we collect compliance reports and other information from them. Occasionally, the information submitted is claimed to be confidential business information (CBI). Information submitted under such a claim is handled in accordance with EPA's regulations at 40 CFR part 2, subpart B and in accordance with the EPA procedures, including comprehensive system security plans (SSPs) that are consistent with those regulations. When the EPA has determined that disclosure of information claimed as CBI to contractors is necessary, the corresponding contract must address the appropriate use and handling of the information by the contractor and the contractor must require its personnel who require access to information claimed as CBI to sign written non-disclosure agreements before they are granted access to data.

In accordance with 40 CFR 2.301(h), we have determined that the contractors, subcontractors, and grantees (collectively referred to as “contractors”) listed below require access to CBI submitted to us under the Clean Air Act and in connection with the Mandatory Greenhouse Gas (GHG) Reporting Rule [40 CFR part 98, subparts A (general registration and reporting provisions) LL, and MM], as well as various OTAQ programs related to fuels, vehicles, and engines (40 CFR parts 79 and 80) and we are providing notice and an opportunity to comment. OTAQ collects this data in order to monitor compliance with Clean Air Act programs and, in many cases, to permit regulated parties flexibility in meeting regulatory requirements. For example, data that may contain CBI are collected to register fuels and fuel additives prior to introduction into commerce. Certain programs are designed to permit regulated parties an opportunity to comply on average, or to engage in transactions using various types of credits. For example, OTAQ collects information about batches of gasoline that refiners produce to ensure compliance with reformulated gasoline standards. We are issuing this Federal Register notice to inform all affected submitters of information that we plan to grant access to material that may be claimed as CBI to the contractors identified below on a need-to-know basis.

Under Contract Number EP-C-11-007, CSRA, located at 3170 Fairview Park Drive, Falls Church, VA 22042, and at 650 Peter Jefferson Parkway, Suite 300, Charlottesville, VA 22901, and its subcontractor, Ecco Select, 1301 Oak Street, Suite 400, Kansas City, MO 64106, provide report processing, program support, technical support, and information technology services that involve access to information claimed as CBI related to 40 CFR part 79, 40 CFR part 80, and 40 CFR part 98 subparts A, LL, and MM. Access to data, including information claimed as CBI, will commence on December 31, 2015. and will continue until June 30, 2016. If the contract is extended, this access will continue for the remainder of the contract without further notice.

OTAQ utilizes the services of enrollees under the Senior Environmental Employment (SEE) program. Some SEE enrollees are provided through Grant Number CQ-834621, the National Association for Hispanic Elderly (NAHE), located at 234 East Colorado Boulevard, Suite 300, Pasadena, CA 91101, and through Grant Numbers CQ-835372 and CQ-835572, the Senior Service America, Inc. (SSAI), located at 8403 Colesville Road, Suite 1200, Silver Spring, MD 20910. Access to data relating to all of OTAQ's programs and to subparts A, LL, and MM of the Mandatory GHG Reporting Rule, including information claimed as CBI, is ongoing until December 31, 2016 for Grant Number CQ-834621, October 14, 2016 for Grant Number CQ-835372, and September 30, 2016 for Grant Number CQ-835572. If these grants are extended, this access will continue for the remainder of the grants and any future extensions without further notice.

OTAQ also has fellows provided via the Oak Ridge Institute for Science and Education (ORISE) Intern/Research Participation Program. Some participants are provided through Interagency Agreement Number DW89924039, the ORISE, located at 1299 Bethel Valley Road, Building SC-200, Oak Ridge, TN 37830. Access to data relating to all of OTAQ's programs and to subparts A, LL, and MM of the Mandatory GHG Reporting Rule, including information claimed as CBI, but excluding CBI under the Toxic Substances Control Act (TSCA) and the Federal Insecticide, Fungicide, and Rodenticide Act (FIFRA), is ongoing until September 30, 2016. If the program is extended, this access will continue for the remainder of the program and any future extensions without further notice.

Parties who want further information about this Federal Register notice or about OTAQ's disclosure of information claimed as CBI to contactors may contact the person listed under FOR FURTHER INFORMATION CONTACT.

Dated: December 15, 2015.
Byron J. Bunker,
Director, Compliance Division, Office of Transportation & Air Quality, Office of Air and Radiation.

[FR Doc. 2015-32011 Filed 12-18-15; 8:45 am]

BILLING CODE 6560-50-P